DEPARTMENT OF HEALTH AND HUMAN SERVICES

Administration for Children and Families

[Assistance Listing Number: 93.652]

Announcement of the Intent To Award a Sole Source Cooperative Agreement to the American Public Human Services Association (APHSA) for the Association of Administrators of the Interstate Compact on the Placement of Children (AAICPC) in Washington, DC

AGENCY: Children's Bureau (CB), Administration for Children and Families (ACF), Department of Health and Human Services (HHS).

ACTION: Notice of Issuance of a sole-source cooperative agreement.

SUMMARY: The CB Division of Capacity Building announces the intent to award a sole-source, 12-month cooperative agreement in the amount of up to $1,600,000 to the American Public Human Services Association (APHSA) for its affiliate the Association of Administrators of the Interstate Compact on the Placement of Children (AAICPC) in Washington, DC, for the further implementation and support nationally of the National Electronic Interstate Compact Enterprise (NEICE) system, an inter-jurisdictional electronic system to improve administrative efficiency in implementing the Interstate Compact on the Placement of Children (ICPC), a process that ensures safe and suitable interstate placements for children in foster care.

DATES: The proposed period of performance is September 30, 2025, to September 29, 2026.

FOR FURTHER INFORMATION CONTACT: Karakahl Allen-Eckard, Child Welfare Program Specialist, Children's Bureau, Division of Capacity Building, 330 C St. SW, Suite 3521B, Washington, DC 20201. Telephone: (202) 401-6781; Email: Karakahl.Allen-Eckard@acf.hhs.gov.

SUPPLEMENTARY INFORMATION: Award funds will support the continued implementation, support, and scale up of the NEICE. The NEICE is a national electronic system for quickly and securely exchanging the data and documents required by the ICPC to place children with foster, adoptive, and kinship families across state lines. APHSA has been the recipient of funding from CB for the development and national implementation of the NEICE since its inception as a pilot project funded by the Partnership Fund for Program Integrity Innovation at the Office of Management and Budget (OMB) and administered by CB in November of 2013. This 20-month pilot proved successful and led to a new sole-source cooperative agreement for the expansion of the pilot to all 52 jurisdictions of the AAICPC nationwide. This funding was further extended and supplemented to continue to support the expansion of the project nationally, with the current funding period expiring on September 29, 2025. This sole-source funding is essential to allow the remaining states to join the system as well as to provide ongoing support and upgrades necessary for an electronic system. In addition, the Family First Prevention Services Act of 2018 requires all states to join an electronic exchange system by October 1, 2027, and the NEICE is on track to support states in meeting this requirement.

The state members of the AAICPC contribute annual membership and connection fees; however, these are currently not adequate to meet the full operational costs of managing the national system. The APHSA is the only organization positioned to continue to scale the project nationally and to ensure the continued optimal maintenance of the NEICE.

Statutory Authority: Title II, section 203(b) of the Child Abuse Prevention and Treatment and Adoption Reform Act of 1978 (42 U.S.C. 5113(b)(3)), as most recently amended by CAPTA Reauthorization Act of 2010.

Elizabeth A. Leo,
Policy Branch Chief, Office of Grants Policy, Office of Administration.

[FR Doc. 2025-16752 Filed 8-29-25; 8:45 am]

BILLING CODE 4184-44-P